FEDERAL COMMUNICATIONS COMMISSION

47 CFR Part 73

[DA 02-915; MM Docket No. 01-345; RM-10344]

Radio Broadcasting Services; Wickenburg and Salome, AZ

AGENCY: Federal Communications Commission.

ACTION: Final rule.

SUMMARY: In response to a proposal filed on behalf of Circle S Broadcasting, Inc. (“Circle S”), licensee of Station KSWG(FM), Wickenburg, Arizona, the Audio Division substitutes Channel 242C for Channel 242C3 at Wickenburg and modifies the authorization for Station KSWG(FM) accordingly. Additionally, this document substitutes Channel 270A for vacant Channel 241A at Salome, Arizona, to accommodate the Wickenburg modification as requested by Circle S. See 67 FR 851, January 8, 2002. A counterproposal filed jointly on behalf of Circle S and Wickenburg Associates, LLC was withdrawn. Coordinates used for Channel 242C at Wickenburg, Arizona, are those of the petitioner's specified transmitter site located 24.6 kilometers (15.3 miles) west of the community at coordinates 33-54-15 NL and 112-59-02 WL. Coordinates used for Channel 270A at Salome are 33-46-54 NL and 113-36-42 WL, representing a site restriction 0.1 kilometer (0.04 mile) north of the community. As Wickenburg and Salome are each located within 320 kilometers of the U.S.-Mexico border, concurrence of the Mexican government to the specified allotments was requested, but has not been received. Therefore, the allotment of Channel 242C at Wickenburg and Channel 270A at Salome are conditioned on concurrence of the Mexican government in accordance with the 1992 USA-Mexico FM Broadcast Agreement. With this action, this docketed proceeding is terminated.

DATES: Effective June 3, 2002. A filing window for Channel 270A at Salome, Arizona, will not be opened at this time. Instead, the issue of opening this allotment for auction will be addressed by the Commission in a subsequent Order.

FOR FURTHER INFORMATION CONTACT: Nancy Joyner, Media Bureau, (202) 418-2180.

SUPPLEMENTARY INFORMATION: This is a synopsis of the Commission's Report and Order, MM Docket No. 01-345, adopted April 10, 2002, and released April 19, 2002. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Arizona, is amended by removing Channel 241A at Salome, and adding Channel 270A at Salome; and removing Channel 242C3 at Wickenburg and adding Channel 242C at Wickenburg.

Federal Communications Commission.
John A. Karousos,
Assistant Chief, Audio Division, Office of Broadcast License Policy, Media Bureau.

[FR Doc. 02-10787 Filed 4-30-02; 8:45 am]

BILLING CODE 6712-01-P